NUCLEAR REGULATORY COMMISSION

Advisory Committee on Reactor Safeguards; Revised

The 519th ACRS meeting scheduled to be held for three days, February 10-12, 2005, has been changed to a two-day meeting, February 10-11, 2005. The agenda for the meeting on Thursday, February 10, 2005 has been modified as noted below.

• The discussion of Waterford Nuclear Plant power uprate, previously scheduled between 8:35 and 10:30 a.m., is now scheduled between 8:35 and 12 noon.

• The item on Technical Basis for Potential Revision of the Pressurized Thermal Shock (PTS) Screening Criteria in the PTS Rule, scheduled between 10:45 and 12:30 p.m., has been postponed to a future ACRS meeting due to the unavailability of draft NUREG document being prepared by the NRC staff.

• The Mixed Oxide Fuel Fabrication Facility discussion scheduled between 1:30 and 4:30 p.m., is now scheduled between 1 and 4 p.m.

All the other items remain the same as previously published in the Federal Register on Monday, January 24, 2005 (70 FR 3399).

For further information, contact Mr. Sam Duraiswamy (telephone 301-415-7364), between 7:30 a.m. and 4:15 p.m., e.d.t.

Dated: February 1, 2005.
Andrew L. Bates,
Advisory Committee Management Officer.

[FR Doc. 05-2241 Filed 2-4-05; 8:45 am]

BILLING CODE 7590-01-P